DEPARTMENT OF THE TREASURY

Internal Revenue Service

26 CFR Part 1

[REG-138499-02]

RIN 1545-BB05

Changes in Use Under Section 168(i)(5)

AGENCY: Internal Revenue Service (IRS), Treasury.

ACTION: Cancellation of notice of public hearing on proposed rulemaking.

SUMMARY: This document provides notice of cancellation of a public hearing on proposed regulations relating to the depreciation of property subject to section 168 of the Internal Code (MACRS property).

DATES: The public hearing originally scheduled for Wednesday, December 3, 2003, at 10 a.m., is cancelled.

FOR FURTHER INFORMATION CONTACT: Treena Garrett of the Publications and Regulations Branch, Legal Processing Division, Associate Chief Counsel (Procedure and Administration), (202) 622-7180 (not a toll-free number).

SUPPLEMENTARY INFORMATION: A notice of proposed rulemaking and notice of public hearing that appeared in the Federal Register on Monday, July 21, 2003, (68 FR 43047), announced that a public hearing was scheduled for Wednesday, December 3, 2003, at 10 a.m., in room 4718, Internal Revenue Service Building, 1111 Constitution Avenue, NW., Washington, DC. The subject of the public hearing is proposed regulations under section 168 of the Internal Revenue Code. The public comment period for these proposed regulations expired on Monday, October 20, 2003. Outlines of oral comments were due on Wednesday, November 12, 2003.

The notice of proposed rulemaking and notice of public hearing, instructed those interested in testifying at the public hearing to submit an outline of the topics to be addressed. As of Wednesday, November 19, 2003, no one has requested to speak. Therefore, the public hearing scheduled for Wednesday, December 3, 2003, is cancelled.

LaNita Van Dyke,
Acting Chief, Publications and Regulations Branch, Legal Processing Division, Associate Chief Counsel (Procedure and Administration).

[FR Doc. 03-29441 Filed 11-24-03; 8:45 am]

BILLING CODE 4830-01-P